DEPARTMENT OF TRANSPORTATION

Federal Railroad Administration

[Docket Number FRA-2000-8089]

Petition for Waivers of Compliance

In accordance with Title 49 Code of Federal Regulations (CFR) Sections 211.9 and 211.41, notice is hereby given that the Federal Railroad Administration (FRA) has received a request for a modification of an existing waiver of compliance with certain requirements of the Federal safety laws and regulations. The petition is described below, including the party seeking relief, the regulatory provisions involved, and the nature of the relief being requested, and the petitioner's arguments in favor of relief. Canadian National Railway Company (CN) seeks to modify an existing waiver in Docket Number FRA-2000-8089 on behalf of itself and its U.S. affiliates.

CN is North America's fifth largest railroad; with 20,600 route miles and approximately 22,000 employees in Canada and the United States. It operates the largest rail network in Canada and the only transcontinental network in North America. Within the last 15 years, CN has carried out extremely successful integrations with the Illinois Central, Wisconsin Central, Great Lakes Transportation, and Elgin, Joliet & Eastern rail systems. CN seeks to modify an existing waiver in which FRA has waived compliance with 49 CFR part 231, which specifies the number, location, and dimensional specifications for handholds, ladders, sill steps, uncoupling levers, and handbrakes; and which regulates drawbar height, for CN's use of RoadRailer equipment.

The original CN waiver to operate RoadRailer equipment was issued by FRA on May 23, 2001, and was extended on August 17, 2011. Subsequent to the most recent extension of the current waiver in force, CN received a request from a customer to extend the number of RoadRailer units handled by its operation. Basically, CN is requesting a modification to the current waiver, which would grant CN the same operational capability and limitations as provided to Norfolk Southern Railway to operate RoadRailer equipment by FRA in Docket Number FRA-2002-11896. Since having the waiver granted in 2001, CN has operated RoadRailer equipment without incident.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket numbers, and may be submitted by any of the following methods:

• Web Site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received by November 10, 2011 will be considered by FRA before final action is taken. Comments received after that date will be considered as far as practicable.

Anyone is able to search the electronic form of any written communications and comments received into any of our dockets by the name of the individual submitting the document (or signing the document, if submitted on behalf of an association, business, labor union, etc.). You may review the U.S. Department of Transportation's complete Privacy Act Statement in the Federal Register published on April 11, 2000 (Volume 65, Number 70; Page 19477), at http://www.dot.gov/privacy.html.

Issued in Washington, DC, on September 19, 2011.
Robert C. Lauby,
Deputy Associate Administrator for Regulatory and Legislative Operations.

[FR Doc. 2011-24574 Filed 9-23-11; 8:45 am]

BILLING CODE P